DEPARTMENT OF HEALTH AND HUMAN SERVICES

Centers for Disease Control and Prevention

[30Day-07-0028]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an email to omb@cdc.gov. Send written comments to CDC Desk Officer, Office of Management and Budget, Washington, DC or by fax to (202) 395-6974. Written comments should be received within 30 days of this notice.

Proposed Project

Evaluation of Customer Satisfaction with the Agency for Toxic Substances and Disease Registry Internet Home Page and Links (OMB No. 0923-0028)—Reinstatement—Agency for Toxic Substances and Disease Registry (ATSDR), Centers for Disease Control and Prevention (CDC).

Background and Brief Description

ATSDR's mandate under the Comprehensive Environmental Response, Compensation, and Liability Act (CERCLA), as amended, is to assess the presence and nature of health hazards at specific Superfund sites. ATSDR considers evaluation to be a critical component for enhancing program effectiveness and improving resource management. Furthermore, in accordance with the Government Performance and Results Act of 1993 (Pub. L. 103-62), the e-Government Act of 2002 and the Federal Enterprise Architecture are key elements of the President's Management Agenda. These “e-government” initiatives have charged staff at all levels of the federal government with the improvement of program effectiveness and public accountability by promoting new focuses on results, service quality, and customer satisfaction. Federal agencies are further charged with the responsibility to articulate clearly the results of their programs in terms that are understandable to their customers, their stakeholders, and the American taxpayer. The proposed data collection addresses these concerns and serves to improve ATSDR's health promotion agenda by providing data on which to assess and improve the usefulness and usability of information provided via ATSDR's Internet-based Home Page and Links. ATSDR has designed its Internet site to serve the general public, persons at risk for exposure to hazardous substances, collaborating organizations, state and local governments, and health professionals. As a “Support Delivery of Services” tool, the ATSDR Web site presents information focused on prevention of exposure and adverse human health effects and diminished quality of life associated with exposure to hazardous substances from waste sites, unplanned releases, and other sources of pollution present in the environment. Furthermore, the ATSDR Web site advances the Agency's health promotion messages, product outreach activities, and future survey options currently under consideration. Therefore, it is critical that ATSDR have the capacity to answer whether or not these activities elicit the desired effects or impact.

ATSDR is requesting a reinstatement with minor changes for the following customer satisfaction surveys:

• ATSDR Web Site User Satisfaction Survey (WSUS)

• Toxicological Profiles User Satisfaction Survey (TPUS)

• ToxFAQs™ User Satisfaction Survey (TFUS)

• Public Health Statements User Satisfaction Survey (PHSUS)

• Toxicology Curriculum for Communities Training Manual

User Satisfaction Survey (TCCUS)

• ToxProfiles™ CD-ROM User Satisfaction Survey (TP-CDUS)

The results of this project will ensure that these audiences will continue to find our knowledge products and informational pieces easy to access, clear, informative and useful. Specifically, this project will continue to examine whether current and future informational updates are presented in an appropriate technological format and whether they meet the needs, wants, and preferences of visitors to the ATSDR Web site. The survey questions have been held to the absolute minimum required for the use of the data.

This extension request is for a three-year period. There are no costs to the respondents other than their time. The total estimated annualized burden hours are 166.

Estimated Annualized Burden Hours
Type of respondents | Form name | Number of respondents | Number of responses per respondent | Average burden per response (in hours)
ATSDR Web site Visitors | WSUS TPUS TFUS PHSUS TCCUS TP-CDUS | 1000 300 300 100 160 140 | 1 1 1 1 1 1 | 5/60 5/60 5/60 5/60 5/60 5/60

Dated: July 9, 2007.
Maryam I. Daneshvar,
Acting Reports Clearance Officer, Centers for Disease Control and Prevention.

[FR Doc. E7-13597 Filed 7-12-07; 8:45 am]

BILLING CODE 4163-18-P